DEPARTMENT OF EDUCATION

[Catalog of Federal Domestic Assistance (CFDA) Number: 84.420A]

Reopening; Application Deadline for Fiscal Year 2015; Performance Partnership Pilots

AGENCY: Office of Career, Technical, and Adult Education, Department of Education.

ACTION: Notice.

SUMMARY: On April 26, 2016, we published in the Federal Register (81 FR 24573) a notice inviting applications (NIA) for the Fiscal Year (FY) 2015 Performance Partnership Pilots (P3) competition. The NIA established a deadline date of June 27, 2016, for the transmittal of applications. This notice reopens the competition until July 19, 2016.

DATES:

Deadline for Transmittal of Applications: July 19, 2016.

Deadline for Intergovernmental Review: September 15, 2016.

SUPPLEMENTARY INFORMATION: We are reopening this competition in order to allow applicants more time to prepare and submit their applications. A number of applications received in response to the NIA were not eligible because the applications did not meet all of the requirements in the NIA, including the deadline for the submission of applications. Therefore, we are reopening the competition to allow applicants to submit or resubmit applications that meet all of the requirements in the NIA.

Applicants that have already submitted applications under the FY 2015 P3 competition are encouraged to review their applications and determine whether they have met all eligibility and application requirements, including the original deadline for submission, in the NIA and the application package, which is available on the Grants.gov Apply site. Applicants may review a recorded Webinar that discusses the eligibility and application requirements at http://youth.gov/youth-topics/reconnecting-youth/performance-partnership-pilots/round-2-bidders-conference-recording.

As stated above, applicants may resubmit applications that may not have met all of the requirements in the NIA. Applicants that have already submitted timely applications that meet all of the requirements of the NIA do not have to resubmit their applications. If a new application is not submitted, the Department will use the application that was submitted before the June 27, 2016, 4:30:00 p.m., Washington, DC time, deadline. Applications that did not meet the June 27, 2016, 4:30 p.m., Washington, DC time, deadline must be resubmitted to be considered for review.

Note: All information in the NIA for this competition remains the same, except for the deadline date. We remind applicants that, to be eligible, the application must be submitted by a State, local, or tribal government. Further, the application must identify two or more discretionary Federal programs ¹ that will be included in the pilot, at least one of which must be administered (in whole or in part) by a State, local, or tribal government. These programs must be discretionary programs administered by one of the agencies to which the P3 authority provided in the Consolidated and Further Continuing Appropriations Act, 2015 (2015 Appropriations Act) or the Consolidated Appropriations Act, 2016 (2016 Appropriations Act) applies. These agencies are the Departments of Education (ED), Health and Human Services (HHS), Justice (DOJ),² and Labor (DOL), the Corporation for National and Community Service (CNCS), and the Institute for Museum and Library Services (IMLS).³ Further, applicants are reminded that, to be eligible for the FY 2015 competition, applications must include some eligible FY 2015 funds from programs at ED, HHS, DOL, CNCS, and IMLS. Applicants may also include FY 2016 funds in their applications, including programs funded under DOJ's Office of Justice Programs, due to the authority in the 2016 Appropriations Act. However, if an applicant intends to use solely FY 2016 or FY 2017 funds, it is not eligible to be a FY 2015 pilot.

¹ Discretionary funds are funds that Congress appropriates on an annual basis, rather than through a standing authorization. They exclude “entitlement” (or mandatory) programs such as Social Security, Medicare, Medicaid, most Foster Care IV-E programs, Vocational Rehabilitation State Grants, and Temporary Assistance to Needy Families. Discretionary programs administered by the Agencies (as defined in the NIA) support a broad set of public services, including education, job training, health and mental health, and other low-income assistance programs.

² Under the language of the 2015 Appropriations Act, applicants may not propose to blend or request any waiver of program requirements associated with FY 2015 funds from DOJ's Office of Justice Programs in this competition. However, they may propose to braid those funds in this round of pilots. Additionally, applicants may include (by blending, braiding, or requesting associated waivers of program requirements) FY 2016 funds from DOJ's Office of Justice Programs.

³ The 2016 Appropriations Act authorizes the Department of Housing and Urban Development (HUD) to enter into performance agreements with respect to FY 2016 Homeless Assistance Grants. HUD is not authorized to enter into performance agreements that will be established under the April 26, 2016 NIA. An NIA for FY 2016 pilots that may include FY 2016 Homeless Assistance Grants is expected to be issued later this year.

FOR FURTHER INFORMATION CONTACT: Marilyn Fountain, U.S. Department of Education, 400 Maryland Avenue SW., Room 11026, Potomac Center Plaza (PCP), Washington, DC 20202. Telephone: (202) 245-7346. Email address: disconnectedyouth@ed.gov. Or Rosanne Andre, U.S. Department of Education, 400 Maryland Avenue SW., Room 11070, PCP, Washington, DC 20202. Telephone: (202) 245-7789. Email address: disconnectedyouth@ed.gov.

If you use a telecommunications device for the deaf (TDD) or a text telephone (TTY), call the Federal Relay Service (FRS), toll free, at 1-800-877-8339.

Accessible Format: Individuals with disabilities can obtain this document and a copy of the application package in an accessible format (e.g., braille, large print, audiotape, or compact disc) on request to either of the program contact persons listed under For Further Information Contact in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: July 7, 2016.
Johan E. Uvin,
Deputy Assistant Secretary, Delegated the Duties of the Assistant Secretary for Career, Technical, and Adult Education.

[FR Doc. 2016-16454 Filed 7-11-16; 8:45 am]

BILLING CODE 4000-01-P